FEDERAL RESERVE SYSTEM

Sunshine Act Meeting

Agency Holding the Meeting: Board of Governors of the Federal Reserve System.

Federal Register Citation of Previous Announcement: 65 FR 49808, August 15, 2000.

Previously Announced Time and Date of the Meeting: 10:00 a.m., Wednesday, August 16, 2000.

Changes in the Meeting: The open meeting has been canceled, and the scheduled item was handled via notation voting.

Contact Person for More Information: Lynn S. Fox, Assistant to the Board; 202-452-3204.

Supplementary Information: You may call 202-452-3206 for a recorded announcement of this meeting; or you may contact the Board's Web site at http://www.federalreserve.gov for an electronic announcement. (The Web site also includes procedural and other information about the open meeting.)

Dated: August 16, 2000.
Robert deV. Frierson,
Associate Secretary of the Board.

[FR Doc. 00-21175 Filed 8-16-00; 1:24 pm]

BILLING CODE 6210-01-P